DEPARTMENT OF TRANSPORTATION

Federal Highway Administration

Proposed Endangered Species Habitat Bank for the Preble's Meadow Jumping Mouse, Douglas County, CO

AGENCY: Federal Highway Administration (FHWA), DOT.

ACTION: Notice of availability; request for comments.

SUMMARY: The FHWA is proposing to sign an agreement with the U.S. Fish and Wildlife Service (Service) which designates 25 acres of property owned by the Colorado Department of Transportation (CDOT) as a habitat conservation bank for the Preble's Meadow Jumping Mouse (Zapus hudsonius preblei). The bank will be used to compensate for impacts to the Preble's Meadow Jumping Mouse as a result of highway improvements. The FHWA, the Service, and CDOT are considering entering an agreement, which outlines the banking procedures. Interested parties are invited to review and provide comment on the proposed agreement to the address listed below.

DATES: Comments must be received on or before February 24, 2003.

FOR FURTHER INFORMATION CONTACT: Edrie Vinson, Environmental Program Manager, Federal Highway Administration, 555 Zang Street, Room 250, Lakewood, CO 80228. Telephone (303) 969-6730, ext. 378.

SUPPLEMENTARY INFORMATION:

Electronic Access

An electronic copy of this document may be downloaded by using a computer, modem and suitable communications software from Government Printing Office's Electronic Bulletin Board Service at (202) 512-1661. Internet users may reach the Office of the Federal Register's Home page at: http://www.nara.gov/fedreg and the Government Printing Office's Web site at: http://www.access.gpo.gov/nara.

Availability of Document

Individuals interested in reviewing a copy of the Plan are asked to contact the Colorado Division of the Federal Highway Administration by telephone at (303) 969-6730, or by submitting a written request for a copy of the document to the Environmental Program Manager at the address listed above in section FOR FURTHER INFORMATION CONTACT.

Background

One of the FHWA's strategic goals is to protect and enhance the natural environment and communities affected by highway transportation. The FHWA and DCOT are bound under Federal environmental regulations to evaluate, consider, and mitigate significant environmental impacts of its projects.

The Service has jurisdiction over the conservation, protection, restoration, enhancement, and management of native fish, wildlife, plants, and habitat necessary for biologically sustaining populations of those species pursuant to the provisions of various Federal laws including the Endangered Species Act.

The CDOT's mission is to provide the best multi-modal transportation system for Colorado that most effectively moves people, goods, and information, while at the same time adhering to CDOT's values, which include working in partnership with all, using resources wisely, and making decisions that are compatible with Colorado's quality of life, including environmental and economic goals.

The Colorado Division of the FHWA provides financial assistance to the State of Colorado through the Federal-aid highway program to create the best transportation system in the world for the American people through proactive leadership, innovation, and excellence in service.

Establishment of the East Plum Creek Conservation Bank Agreement represents an excellent opportunity to support and enhance the ongoing habitat conservation planning efforts in the regions by conserving highly valuable resources at the site. Within its boundaries, the East Plum Creek Conservation Bank will provide for the permanent protection of the preble's meadow jumping mouse (PMJM) through the preservation, restoration, and enhancement of off-site lands that possess comparable or greater habitat values.

The property supports aquatic, riparian, upland and wetland habitat for the PMJM. Native vegetation communities occur on the site such as willow shrub lands and herbaceous wet meadows.

The Service has determined that the East Plum Creek Conservation Bank lands, as the have been and are being improved and restored through the conservation actions described in Exhibit F (Habitat Management Plan) of the Agreement, are suitable to mitigate for impacts to habitat for PMJM within the Service area.

The parties desire to establish a Conservation Bank in order to provide for the permanent conservation of the property, the use of the land as mitigation and the use of Conservation Bank credits by CDOT to offset unavoidable temporary and permanent impacts associated with its projects in need of such mitigation.

Authority: 23 U.S.C. 315; 49 CFR 1.48.

Issued on: December 18, 2002.
William C. Jones,
Division Administrator, Colorado.

[FR Doc. 02-32464 Filed 12-24-02; 8:45 am]

BILLING CODE 4910-22-M